NUCLEAR REGULATORY COMMISSION

[Docket No. 52-039; NRC-2008-0603]

Bell Bend Nuclear Power Plant

AGENCY: Nuclear Regulatory Commission.

ACTION: Draft environmental impact statement; public meeting and request for comment.

SUMMARY: The U.S. Nuclear Regulatory Commission (NRC) and the U.S. Army Corps of Engineers (USACE), Baltimore District, are issuing for public comment NUREG-2179, “Environmental Impact Statement for the Combined License (COL) for the Bell Bend Nuclear Power Plant” to support the environmental review for the COL. PPL Bell Bend, LLC (PPL) submitted an application for the COL to construct and operate one new nuclear power plant at its Bell Bend Nuclear Power Plant (BBNPP) site, located in Luzerne County, Pennsylvania.

DATES: Submit comments by July 7, 2015. Comments received after this date will be considered if it is practical to do so, but the Commission is able to ensure consideration only for comments received on or before this date.

ADDRESSES: You may submit comments by any of the following methods (unless this document describes a different method for submitting comments on specific subject):

• Federal Rulemaking Web site: Go to http://www.regulations.gov and search for Docket ID NRC-2008-0603. Address questions about NRC dockets to Carol Gallagher; telephone: 301-415-3463; email: Carol.Gallagher@nrc.gov. For technical questions, individuals listed in the FOR FURTHER INFORMATION CONTACT section of this document.

• Mail comments to: Cindy Bladey, Office of Administration, Mail Stop: OWFN-O12-H8, U.S. Nuclear Regulatory Commission, Washington, DC 20555-0001.

For additional direction on obtaining information and submitting comments, see “Obtaining Information and Submitting Comments,” in the SUPPLEMENTARY INFORMATION section of this document.

FOR FURTHER INFORMATION CONTACT: Tomeka Terry, telephone: 301-415-1488, email: Tomeka.Terry@nrc.gov, or Patricia Vokoun, telephone: 301-415-3470, email: Patricia.Vokoun@nrc.gov. Both are staff of the Office of New Reactors, U.S. Nuclear Regulatory Commission, Washington, DC 20555-0001.

SUPPLEMENTARY INFORMATION:

I. Obtaining Information and Submitting Comments

A. Obtaining Information

Please refer to Docket ID NRC-2008-0603 when contacting the NRC about the availability of information regarding this document. You may obtain publicly-available information related to this action by the following methods:

• Federal Rulemaking Web site: Go to http://www.regulations.gov and search for Docket ID NRC-2008-0603.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The draft environmental impact statement (EIS) is available in ADAMS under accession Nos. ML15103A012 and ML15103A025, respectively.

• NRC's PDR: You may examine and purchase copies of public documents at the NRC's PDR, Room O1-F21, One White Flint North, 11555 Rockville Pike, Rockville, Maryland 20852.

• Project Web site: The draft EIS can be accessed online at the Bell Bend COL specific Web page at: http://www.nrc.gov/reactors/new-reactors/col/bell-bend.html.

B. Submitting Comments

Please include Docket ID NRC-2008-0603 in the subject line of your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC is issuing for public comment NUREG-2179, “Draft Environmental Impact Statement for the Combined License (COL) for the Bell Bend Nuclear Power Plant.” The PPL submitted an application for the COL to construct and operate one new nuclear power plant at its BBNPP site, located in Luzerne County, Pennsylvania. The application was submitted by letter dated October 10, 2008, pursuant to part 52 of Title 10 of the Code of Federal Regulations (CFR). A notice of receipt and availability of the application including the environmental report was published in the Federal Register on November 13, 2008 (73 FR 67214). A notice of acceptance for docketing of the COL application was published in the Federal Register on December 29, 2008 (73 FR 79519). A notice of intent to prepare a draft EIS and to conduct scoping was published in the Federal Register on January 6, 2009 (74 FR 470). On March 30, 2012, PPL submitted a revised environmental report (Part 3 of the COL application), in accordance with 10 CFR 51.45 and 51.50, to provide detailed information regarding the revised site layout that was developed in order to avoid wetland impacts by relocating the power block footprint and other plant components. A notice of intent to conduct a supplemental scoping process on the revised site layout was published in the Federal Register on June 15, 2012 (77 FR 36012).

The draft EIS also supports the USACE's review and was prepared in accordance with the National Environmental Policy Act of 1969, as amended. The draft EIS also supports the USACE's review of the Department of the Army permit application from PPL (CENAB-OP-RPA-2008-01401). The USACE's Public Interest Review will be part of its Record of Decision and is not addressed in the draft EIS. As part of the USACE public comment process, the USACE will publish a notice (in the Federal Register) within 30 days of the publication of the draft EIS to solicit comments from the public regarding PPL's Department of the Army permit application for proposed work at the BBNPP site.

II. Request for Comment and Public Meetings

The NRC is requesting public comments on the draft EIS. The NRC and USACE staff will conduct two public meetings to present an overview of the draft EIS and to accept public comments on both the document and the associated Department of the Army permit application on Thursday, June 4, 2015, at Bloomsburg University, Monty's Building Upper Campus, 400 East Second Street, Bloomsburg, Pennsylvania 17815. The first meeting will convene at 3:00 p.m. and will continue until 5:30 p.m., as necessary. The second meeting will convene at 7:30 p.m., with a repeat of the overview portions of the first meeting, and will continue until 10:00 p.m., as necessary. For additional information regarding the meetings, see the NRC's Public Meeting Schedule Web site at https://meetings.nrc.gov/pmns/mtg. The agenda will be posted no later than 10 days prior to the meetings.

Dated at Rockville, Maryland, this 14th day of April 2015.
For the Nuclear Regulatory Commission.
Mark Delligatti,
Deputy Director, Division of New Reactor Licensing, Office of New Reactors.

[FR Doc. 2015-09274 Filed 4-20-15; 8:45 am]

BILLING CODE 7590-01-P